DEPARTMENT OF JUSTICE

Notice of Lodging of Proposed Consent Decree Under the Clean Water Act

On September 18, 2014, the Department of Justice lodged a proposed Consent Decree with the United States District Court for the Northern District of California in the lawsuit entitled United States of America v. Sims Group USA Corporation d/b/a Sims Metal Management, Civil Action No. 3:14-CV-4209.

The United States of America brought claims on behalf of the United States Environmental Protection Agency under Sections 301 and 402 of the Clean Water Act, 33 U.S.C. 1251, et seq., against Sims Group USA Corporation d/b/a Sims Metal Management.

The United States alleges that the violations arose from Sims' industrial activities at the Port of Redwood City in Redwood City, California. The United States alleges that Sims allowed metal and other material to fall from its ship-loading conveyor directly into Redwood Creek. In addition, the Complaint alleges that Sims violated several requirements of its General Permit authorization for stormwater discharges associated with industrial activity. Sims encapsulated its ship-loading conveyor and came into compliance with the CWA in March 2012. It came into compliance with the General Permit in April 2013.

The proposed Consent Decree would require Sims to pay $189,500 in civil penalties for its violations, and to study and remediate contaminated sediments near the conveyor.

The publication of this notice opens a period for public comment on the proposed Consent Decree. Comments should be addressed to the Assistant Attorney General, Environment and Natural Resources Division, and should refer to United States of America v. Sims Group USA Corporation d/b/a Sims Metal Management, D.J. Ref. No. 90-5-1-1-10706. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

During the public comment period, the proposed Consent Decree may be examined and downloaded at this Department of Justice Web site: http://www.usdoj.gov/enrd/Consent_Decrees.html. We will provide a paper copy of the proposed Consent Decree upon written request and payment of reproduction costs. Please mail your request and payment to: Consent Decree Library, U.S. DOJ—ENRD, P.O. Box 7611, Washington, DC 20044-7611.

Please enclose a check or money order for $8.75 (25 cents per page reproduction cost) payable to the U.S. Treasury.

Maureen Katz,
Assistant Section Chief, Environmental Enforcement Section, Environment and Natural Resources Division.

[FR Doc. 2014-22607 Filed 9-23-14; 8:45 am]

BILLING CODE 4410-15-P